DEPARTMENT OF ENERGY

Federal Energy Regulatory Commission

[Docket No. RD16-1-000]

Notice on Agency Information Collection (FERC-725L)

AGENCY: Federal Energy Regulatory Commission.

ACTION: Notice and request for comments.

SUMMARY: The Federal Energy Regulatory Commission (Commission) invites public comment in Docket No. RD16-1-000 on a non-material or non-substantive change to the collection of information (FERC-725L) that the Commission is submitting to the Office of Management and Budget (OMB) pursuant to the Paperwork Reduction Act of 1995. Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 13, 2016.

ADDRESSES: Comments filed with OMB, identified by the OMB Control No. 1902-0261 or collection number (FERC-725L), should be sent via email to the Office of Information and Regulatory Affairs at: oira_submission@omb.gov. Attention: Federal Energy Regulatory Commission Desk Officer. The Desk Officer may also be reached via telephone at 202-395-0710.

A copy of the comments, identified by docket number, should also be sent to the Commission in one of the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The Commission will submit the reporting and recordkeeping requirements of Reliability Standard MOD-031-2 to OMB for review of a non-material or non-substantive change. Reliability Standard MOD-031-2 replaces or supplements requirements from previous versions of the MOD-031 Reliability Standard, which are approved under FERC-725L (Mandatory Reliability Standards for the Bulk-Power System: MOD Reliability Standards).

Type of Request: Approval of a non-material or non-substantive change to the FERC-725L information collection requirements.

Abstract: The Commission requires the information collected by the FERC-725L to implement the statutory provisions of section 215 of the Federal Power Act (FPA).¹ On August 8, 2005, Congress enacted into law the Electricity Modernization Act of 2005, which is Title XII, Subtitle A, of the Energy Policy Act of 2005 (EPAct 2005).² EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.³

¹ 16 U.S.C. 824o (2012).

² Energy Policy Act of 2005, Pub. L. 109-58, Title XII, Subtitle A, 119 Stat. 594, 941 (codified at 16 U.S.C. 824o).

³ 16 U.S.C. 824o(e)(3).

On February 3, 2006, the Commission issued Order No. 672, implementing section 215 of the FPA.⁴ Pursuant to Order No. 672, the Commission certified one organization, North American Electric Reliability Corporation (NERC), as the ERO.⁵ The Reliability Standards developed by the ERO and approved by the Commission apply to users, owners and operators of the Bulk-Power System as set forth in each Reliability Standard.

⁴ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁵ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

The Reliability Standard MOD-031-2 achieves the same reliability purpose of the prior version MOD-031-1. This standard provides authority for Bulk-Power System planners and operators to collect demand, energy, and related data to support reliability studies and assessments, and enumerates the responsibilities and obligations of requestors and respondents of that data.

In its November 13, 2015 petition, NERC states that Reliability Standard MOD-031-2 is an improvement to the existing version of the standard because it clarifies the compliance obligations related to (1) providing data to Regional Entities and (2) responding to a request for data subject to confidentiality restrictions. NERC also states that the improvements to the Reliability Standard are consistent with the Commission directives in Order No. 804.⁶ In Order No. 804, the Commission approved Reliability Standard MOD-031. However, the Commission also directed, pursuant to 215(d)(5) of the FPA, that NERC develop a modification to Reliability Standard MOD-031-1 to clarify that planning coordinators and balancing authorities must provide demand and energy data upon request of a Regional Entity, as necessary to support NERC's development of seasonal and long-term reliability assessments.

⁶ NERC Petition at 2, n.8 citing Demand and Energy Data Reliability Standard, Order No. 804, 150 FERC ¶ 61,109 at PP 14-15 (2015).

In a Delegated Letter Order in Docket No. RD16-1, the Commission approved the proposed Reliability Standard MOD-031-2 on February 18, 2016.⁷

⁷ The Delegated Letter Order is available in FERC's eLibrary at http://elibrary.ferc.gov/idmws/common/opennat.asp?fileID=14148897.

FERC is not changing the way the FERC-725L collection is being done, and is not modifying the burden, cost, or respondents. The reporting and recordkeeping requirements will be submitted to the OMB as a non-material or non-substantive change to the currently approved FERC-725L collection.

Type of Respondents: Distribution Providers (DP), Load-Serving Entities (LSE), Transmission Planner (TP), and Balancing Authorities (BA).

Estimate of Annual Burden.⁸ The burden and cost are not expected to change from the figures currently approved by the OMB.⁹

⁸ The Commission defines burden as the total time, effort, or financial resources expended by persons to generate, maintain, retain, or disclose or provide information to or for a federal agency. See 5 CFR part 1320 for more information.

⁹ The current burden inventory for FERC-725L, as modified by the Final Rule (Order No. 804) in Docket No. RM14-12 (80 FR 9596, 2/24/2015), was approved by the OMB on 4/24/2015.

Dated: March 8, 2016.
Nathaniel J. Davis, Sr.,
Deputy Secretary.

[FR Doc. 2016-05654 Filed 3-11-16; 8:45 am]

BILLING CODE 6717-01-P